DEPARTMENT OF HOMELAND SECURITY

Coast Guard

33 CFR Part 3

[USCG-2008-0073]

RIN 1625-ZA15

Sector Anchorage Western Alaska Marine Inspection and Captain of the Port Zones; Technical Amendment

AGENCY: Coast Guard, DHS.

ACTION: Final rule.

SUMMARY: This rule makes a technical change in the boundary description of the Western Alaska Marine Inspection and Captain of the Port Zones, within the Seventeenth Coast Guard District's Sector Anchorage. This rule will have no substantive effect on the regulated public.

DATES: This final rule is effective March 21, 2008.

ADDRESSES: Comments and material received from the public, as well as documents mentioned in this preamble as being available in the docket, are part of docket USCG-2008-0073 and are available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet at www.regulations.gov.

FOR FURTHER INFORMATION CONTACT: If you have questions on this rule, call Commander Todd Styrwold, Coast Guard, telephone 202-372-2687. If you have questions on viewing the docket, call Ms. Renee V. Wright, Program Manager, Docket Operations, telephone 202-366-9826.

SUPPLEMENTARY INFORMATION:

Regulatory History

We did not publish a notice of proposed rulemaking (NPRM) for this regulation. Under both 5 U.S.C. 553(b)(A) and (b)(B), the Coast Guard finds that this rule is exempt from notice and comment rulemaking requirements because this change involves agency organization, and good cause exists for not publishing an NPRM because the change made is non-substantive. This rule only aligns regulatory language with existing Coast Guard internal documents that establish the boundaries of the affected zones. The change will have no substantive effect on the public; therefore, it is unnecessary to publish an NPRM. Under 5 U.S.C. 553(d)(3), the Coast Guard finds that, for the same reasons, good cause exists for making this rule effective less than 30 days after publication in the Federal Register.

Background and Purpose

In the Federal Register of July 2, 2007 (72 FR 36318), the Coast Guard issued a final rule to align various regulations with internal documents establishing a new system of sector commands. The regulation describing the boundaries of the Western Alaska Marine Inspection and Captain of the Port Zones, within the Seventeenth Coast Guard District's Sector Anchorage, contained an error. Due to the length of time since the erroneous description was issued, the Coast Guard is issuing a technical amendment, instead of a correction notice, to correct the description. The correction is informational and will have no substantive effect on the regulated public.

Regulatory Evaluation

This rule is not a “significant regulatory action” under section 3(f) of Executive Order 12866, Regulatory Planning and Review, and does not require an assessment of potential costs and benefits under section 6(a)(3) of that Order. The Office of Management and Budget has not reviewed it under that Order. As this rule involves internal agency organization and non-substantive changes, it will not impose any costs on the public.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. This rule does not require a general NPRM and, therefore, is exempt from the requirements of the Regulatory Flexibility Act. Although this rule is exempt, we have reviewed it for potential economic impact on small entities.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(a) and (b), of the Instruction from further environmental documentation because this rule involves editorial, procedural, and internal agency functions. A final “Environmental Analysis Check List” and a final “Categorical Exclusion Determination” are available in the docket where indicated under ADDRESSES.

List of Subjects in 33 CFR Part 3

Organization and functions (Government agencies).

For the reasons discussed in the preamble, the Coast Guard amends 33 CFR part 3 as follows:

PART 3—COAST GUARD AREAS, DISTRICTS, SECTORS, MARINE INSPECTION ZONES, AND CAPTAIN OF THE PORT ZONES

1. The authority citation for part 3 continues to read as follows:

Authority: 14 U.S.C. 92; Pub. L. 107-296, 116 Stat. 2135; Department of Homeland Security Delegation No. 0170.1, para. 2(23).

2. Amend § 3.85-15 by revising paragraph (a) to read as follows:

§ 3.85-15 Sector Anchorage: Western Alaska Marine Inspection Zone and Captain of the Port Zones; Marine Safety Unit Valdez: Prince William Sound Marine Inspection and Captain of the Port Zones.

* * * * *

(a) Sector Anchorage's Western Alaska Marine Inspection and Captain of the Port Zones start near the Canadian border on the EEZ at latitude 60°18′24″ N, longitude 141°00′00″ W, proceeding southwest to latitude 60°01′18″ N, longitude 142°00′00″ W; thence south to the outermost extent of the EEZ at latitude 56°14′50″ N, longitude 142°00′00″ W; thence southwest along the outermost extent of the EEZ to latitude 51°22′15″ N, longitude 167°38′28″ E; thence northeast along the outermost extent of the EEZ to latitude 65°30′00″ N, longitude 168°58′37″ W; thence north along the outermost extent of the EEZ to latitude 72°46′29″ N, longitude 168°58′37″ W; thence northeast along the outermost extent of the EEZ to latitude 74°42′35″ N, longitude 156°28′30″ W; thence southeast along the outermost extent of the EEZ to latitude 72°56′49″ N, longitude 137°34′08″ W; thence south along the outermost extent of the EEZ to the coast near the Canadian border at latitude 69°38′48.88″ N, longitude 140°59′52.7″ W; thence south along the United States-Canadian boundary to the point of origin; and in addition, all the area described in paragraph (b) of this section.

* * * * *

Dated: March 18, 2008.
Steve Venckus,
Chief, Office of Regulations and Administrative Law (CG-0943).

[FR Doc. E8-5775 Filed 3-20-08; 8:45 am]

BILLING CODE 4910-15-P